DEPARTMENT OF AGRICULTURE

Animal and Plant Health Inspection Service

7 CFR Part 319

[Docket No. 02-106-1]

Importation of Fruits and Vegetables

AGENCY: Animal and Plant Health Inspection Service, USDA.

ACTION: Proposed rule.

SUMMARY: We propose to amend the fruits and vegetables regulations to list a number of fruits and vegetables from certain parts of the world as eligible, under specified conditions, for importation into the United States. All of the fruits and vegetables, as a condition of entry, would be inspected and subject to treatment at the port of first arrival as may be required by an inspector. In addition, some of the fruits and vegetables would be required to meet other special conditions. We also propose to recognize areas in Peru as free from the South American cucurbit fly. These actions would provide the United States with additional types and sources of fruits and vegetables while continuing to protect against the introduction of quarantine pests through imported fruits and vegetables.

DATES: We will consider all comments that we receive on or before February 17, 2004.

ADDRESSES: You may submit comments by postal mail/commercial delivery or by e-mail. If you use postal mail/commercial delivery, please send four copies of your comment (an original and three copies) to: Docket No. 02-106-1, Regulatory Analysis and Development, PPD, APHIS, Station 3C71, 4700 River Road Unit 118, Riverdale, MD 20737-1238. Please state that your comment refers to Docket No. 02-106-1. If you use e-mail, address your comment to regulations@aphis.usda.gov. Your comment must be contained in the body of your message; do not send attached files. Please include your name and address in your message and “Docket No. 02-106-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Wayne Burnett, Senior Import Specialist, PPQ, APHIS, 4700 River Road Unit 140, Riverdale, MD 20737-1236; (301) 734-6799.

SUPPLEMENTARY INFORMATION:

Background

The regulations in “Subpart—Fruits and Vegetables” (7 CFR 319.56 through 319.56-8, referred to below as the regulations) prohibit or restrict the importation of fruits and vegetables into the United States from certain parts of the world to prevent the introduction and spread of plant pests that are new to or not widely distributed within the United States.

At the request of various importers and foreign ministries of agriculture, we propose to amend the regulations to list a number of fruits and vegetables from certain parts of the world as eligible, under certain conditions, for importation into the United States. We also propose to list certain fruits and vegetables that have been imported into the United States under a permit without being specifically listed in the regulations to improve the transparency of our regulations.

The fruits and vegetables referred to in this document would have to be imported under a permit and would be subject to the requirements in § 319.56-6 of the regulations. Under § 319.56-6, all imported fruits and vegetables, as a condition of entry into the United States, must be inspected; they are also subject to disinfection at the port of first arrival if an inspector requires it. Section 319.56-6 also provides that any shipment of fruits and vegetables may be refused entry if the shipment is so infested with plant pests that an inspector determines that it cannot be cleaned or treated.

Some of the fruits and vegetables proposed for importation would have to meet other special conditions. The proposed conditions of entry, which are discussed below, appear adequate to prevent the introduction and spread of quarantine pests through the importation of these fruits and vegetables.

We have prepared a pest risk assessment or, in two cases, a decision sheet, for each of the fruits and vegetables that we propose to add, unless we have allowed their entry previously under a permit. Copies of the pest risk assessments and decision sheets are available from the person listed under FOR FURTHER INFORMATION CONTACT.

We also propose to make other amendments to update and clarify the regulations and improve their effectiveness. Our proposed amendments are discussed below by topic.

Inspected and Subject to Disinfection

Section 319.56-2t lists fruits and vegetables that may be imported into the United States upon inspection and subject to disinfection. We propose to amend that list to include additional fruits and vegetables from certain countries; some of the fruits and vegetables would be added in response to requests that we have received, while others have been imported into the United States under a permit but are not listed in the regulations. We also propose to make miscellaneous, nonsubstantive changes to § 319.56-2t. All of these proposed changes are discussed below.

African Horned Cucumber From Chile

We propose to amend § 319.56-2t to allow the entry of the African horned cucumber (Cucumis metuliferus) fruit from Chile. The pest risk assessment indicates that there are no quarantine pests associated with the African horned cucumber fruit from Chile that are likely to follow the import pathway. Therefore, we believe that the African horned cucumber from Chile may be imported into the United States under the requirements in § 319.56-6. The pest risk assessment was limited to the continental United States. Therefore, we would require African horned cucumber from Chile to be shipped in boxes labeled “Not for importation or distribution in HI, PR, VI, or Guam.”

Annona spp. from Grenada

We propose to amend § 319.56-2t to allow the entry of commercial fruit shipments of cherimoya (Annona cherimola), soursop (A. muricata), custard apple (A. reticulata), sugar apple (A. squamosa), and atemoya (A. squamosa × A. cherimola) into the United States from Grenada.

The Government of Grenada requested that we authorize the importation of these commodities several years ago, before we routinely prepared pest risk assessments according to the guidelines provided by the Food and Agriculture Organization and the North American Plant Protection Organization. At that time, we prepared decision sheets. Decision sheets contain relatively the same information that is contained in modern pest risk assessments, but without the standardized format.

The decision sheet identified three internal feeders as quarantine pests in the West Indies: Bephratelloides cubensis, Talponia batesi, and Cerconota anonella. Because of the possibility that these internal feeders may have existed in Grenada, we did not issue a permit to allow the importation of Annona spp. fruit. Subsequently, Grenada informed us that they did not have those pests. We agreed to reconsider their import request if a survey determined that the internal feeders were indeed not present in Annona spp. fruit grown in Grenada. Grenada conducted a 3-year survey for the internal feeders and sampled more than 16,000 fruits, and no internal feeders or quarantine pests were found. In addition to approving the survey protocol, the Animal and Plant Health Inspection Service (APHIS) periodically observed the survey. More information on the survey and copies of the report may be obtained from the person listed under FOR FURTHER INFORMATION CONTACT.

We would limit imports of Annona spp. fruit to commercial shipments because produce grown commercially is less likely to be infested with plant pests than noncommercial shipments. Noncommercial shipments are more prone to infestations because the commodity is often ripe to overripe, could be a variety with unknown susceptibility to pests, and is often grown with little or no pest control. Commercial shipments, as defined in § 319.56-1, are shipments of fruits and vegetables that an inspector identifies as having been produced for sale and distribution in mass markets. Identification of a particular shipment as commercial is based on a variety of indicators, including, but not limited to, the quantity of produce, the type of packaging, identification of a grower or packing house on the packaging, and documents consigning the shipment to a wholesaler or retailer.

Based on the survey results and the decision sheet, we believe that restricting imports of Annona spp. fruit to commercial shipments and requiring inspection at the port of first arrival would be adequate to mitigate any pest risks. Therefore, we propose to list Annona spp. fruits from Grenada in § 319.56-2t.

Fruits and Vegetables From Mexico

The regulations in § 319.56-2(e) provide that any fruit or vegetable, except those otherwise restricted, may be imported under permit if APHIS is satisfied that the fruit or vegetable meets one of several conditions:

(1) The fruit or vegetable is not attacked in the country of origin by quarantine pests.

(2) It has been treated or is to be treated for all quarantine pests in the country of origin, in accordance with conditions and procedures that may be prescribed by the Administrator.

(3) It is imported from a definite area or district in the country of origin that is free from all quarantine pests that attack the fruit or vegetable and its importation is in compliance with the criteria of § 319.56-2(f).

(4) It is imported from a definite area or district of the country of origin that is free from quarantine pests that attack the fruit or vegetable and the criteria of § 319.56-2(f) are met with regard to those quarantine pests, provided that all other quarantine pests that attack the fruit or vegetable in the area or district of the country of origin have been eliminated from the fruit or vegetable by treatment or any other procedures that may be prescribed by the Administrator.

Prior to 1992, APHIS did not specifically amend the regulations to list those fruits and vegetables for which we issued a permit after determining that the fruit or vegetable was eligible for entry under the regulations in § 319.56-2(e). However, in 1992, in an effort to increase transparency, we changed our approach and began to amend the regulations to specifically list all newly eligible fruits and vegetables (i.e., those that were not previously eligible under a specific administrative instruction or imported under permit in accordance with § 319.56-2(e)). In most cases, we have not amended the regulations to list the fruits and vegetables that were allowed entry exclusively under permit prior to our decision to specifically list the commodities in the regulations.

In this document, we propose to list the following fruits and vegetables in § 319.56-2t. These fruits and vegetables, which we determined meet the criteria of § 319.56-2(e)(4), have been imported into the United States from Mexico under permit since before 1992.

Common name | Botanical name | Plant part(s)
Allium | Allium spp | Whole plant.
Asparagus | Asparagus officinalis | Whole plant.
Beet | Beta vulgaris | Whole plant.
Carrot | Daucus carota | Whole plant.
Coconut | Cocos nucifera | Fruit without husk.
Eggplant | Solanum melongena | Whole plant.
Grape | Vitis spp | Fruit, cluster, leaves.
Jicama | Pachyrhizus tuberosus | Whole plant.
Lemon | Citrus limon | Fruit.
Lime, sour | Citrus aurantiifolia | Fruit.
Parsley | Petroselinum crispum | Whole plant.
Pineapple | Ananas comosus | Fruit.
Prickly-pear pad | Opuntia spp | Pad.
Radish | Raphanus sativus | Whole plant.
Tomato | Lycopersicon lycopersicum | Whole plant.
Tuna | Opuntia spp | Fruit.

In addition, although the flower of banana (Musa spp.) and the inflorescence of cucurbits (Cucurbitaceae) are currently listed in § 319.56-2t as admissible plant parts from Mexico, the fruit of banana and the flower and fruit of cucurbits have been admissible as well under permit. Therefore, we propose to amend the existing entries for bananas and cucurbits from Mexico so that all admissible plant parts of those commodities are listed in § 319.56-2t.

While a few quarantine pests have been detected on these particular fruits and vegetables during inspection at the ports, they have been eliminated from the fruit or vegetable by treatment or other procedures. Therefore, we believe that these fruits and vegetables, or plant parts, should be listed in § 319.56-2t so that the regulations specifically indicate that these commodities may be imported from Mexico. In accordance with § 319.56-6, these fruits and vegetables would continue to be inspected at the port of first arrival and, if required by an inspector, disinfected at the port of first arrival.

Coconut Fruit With Milk and Husk From Mexico

In 1989, we prepared a decision sheet in response to Mexico's request to export coconut fruit with milk and husk to the United States. Because we identified two quarantine pests of concern (the red ring nematode [Rhadinaphelenchus cocophlus] and lethal yellowing disease), we denied the request.

Since that time, however, we have determined that the risk associated with red ring nematode is low. In 1992, we amended 7 CFR 319.37-5(g) to allow seed coconuts to be imported into the United States from Costa Rica, where the red ring nematode is also known to occur, since the risk associated with introducing red ring nematode in seed coconuts was determined to be low. Prior to that amendment, the importation of seed coconut was allowed only from Jamaica, where the red ring nematode is not known to occur. Given that the risk associated with the red ring nematode is the same for seed coconuts and coconuts with milk and husk, and that seed coconut from Costa Rica has been successfully imported into the United States for over a decade, we have reconsidered Mexico's request and propose to allow coconut fruit with milk and husk to be imported into the United States from Mexico if inspected at the port of first arrival in accordance with § 319.56-6. Because the risk associated with the red ring nematode is low, we believe that inspection at the port of first arrival is sufficient to mitigate the risk.

To mitigate the risk associated with lethal yellowing disease, we propose to allow coconut fruit with milk and husk to be imported into the United States from Mexico under conditions similar to the existing conditions for the importation of seed coconuts from Costa Rica and Jamaica. Seed coconuts imported into the United States from Costa Rica or Jamaica must be of either the Malayan dwarf variety or the Maypan variety, which are resistant to lethal yellowing disease. The seed coconuts must be accompanied by a phytosanitary certificate which declares that the coconuts are either the Malayan dwarf variety or the Maypan variety.

Therefore, we are proposing to require that the coconut fruit with milk and husk be accompanied by a phytosanitary certificate issued by the national plant protection organization (NPPO) of Mexico with an additional declaration stating that the fruit is of the Malayan dwarf variety or Maypan variety (=F1 hybrid, Malayan Dwarf×Panama Tall), based on verification of the parent stock. Inspection at the port of entry would further mitigate the risk associated with lethal yellowing disease. We believe that these proposed conditions are adequate to prevent the introduction of the quarantine pests of concern. Therefore, we propose to list coconut fruit with milk and husk from Mexico in § 319.56-2t.

Pitaya From Mexico

Based on a pest risk assessment conducted for pitaya from Mexico that identified the pests of concern as the Mediterranean fruit fly (Medfly, Ceratitis capitata), fruit flies of the genus Anastrepha, gray pineapple mealybug (Dymicoccus neobrevipes), and passionvine mealybug (Planococcus minor), we propose to allow the entry of pitaya from Mexico only under certain conditions.

In addition to requiring that pitaya from Mexico be subject to inspection and disinfection at the port of entry, we would require that the pitaya be grown in an area that has been recognized as a fruit fly-free area. The regulations in § 319.56-2(h) list the municipalities in Mexico that APHIS has determined meet the criteria of § 319.56-2(e) and (f) with regard to freedom from the Medfly and fruit flies of the genus Anastrepha.

The fruit would have to be accompanied by a phytosanitary certificate issued by Mexico's NPPO declaring that the fruit originated in an area designated in § 319.56-2(h) as free from pests and, upon inspection, was found free of D. neobrevipes and P. minor. These additional conditions would be necessary to assure us that the product originated in a fruit fly-free area and was inspected and found free of the specified mealybugs.

Because the pest risk assessment was limited to the continental United States, we would require pitaya from Mexico to be shipped in boxes labeled “Not for importation or distribution in HI, PR, VI, or Guam.”

We believe that these proposed conditions are adequate to prevent the introduction of the quarantine pests of concern. Therefore, we propose to list pitaya from Mexico in § 319.56-2t.

Other Amendments to § 319.56-2t

In many cases, the entries for specific fruits and vegetables in the table in § 319.56-2t include additional conditions, such as restrictions on the distribution of the fruit or vegetable or a requirement that the fruit or vegetable originate in a pest-free area and be so certified on a phytosanitary certificate. We propose to remove those additional conditions from the table and place them in a new paragraph (b) in § 319.56-2t. In the table, the entries in which the additional conditions had appeared would instead include a reference to the paragraph or paragraphs in the new paragraph (b) where the applicable conditions would appear. We believe this reorganization of the information contained in the table would make the table easier to read and use and would eliminate the need to repeat the same conditions multiple times when those conditions apply to more than one fruit or vegetable.

In order to minimize the number of restrictions in the proposed new paragraph (b), we would state certain requirements more generally. For instance, rather than stating that a phytosanitary certificate must be issued by the NPPO of a specific country, we would state that the phytosanitary certificate must be issued by the NPPO of the country of origin. Because the term “country of origin” is not defined in the regulations, we propose to add a definition of the term “country of origin” in § 319.56-1. The term “country of origin” would be defined as “Country where the plants from which the plant products are derived were grown,” which is consistent with the definition provided in the standards of the International Plant Protection Convention of the United Nations' Food and Agriculture Organization.

The entries for some of the fruits and vegetables in the current regulations specify that the commodity may not be imported into or distributed within certain areas. For example, papaya from Guatemala is prohibited entry into Hawaii due to the papaya fruit fly, and cartons in which fruit is packed must be stamped “Not for importation into or distribution within HI.” However, for other commodities, such as dasheen from Indonesia, the required statement refers only to distribution (i.e., the statement does not refer to both importation and distribution). For consistency, we would specify that the importation into, as well as the distribution within, certain areas is prohibited.

Under § 319.56-2t, lucuma, mountain papaya, and sand pear from Chile may be imported from a Medfly-free area. However, the regulations do not specify that a phytosanitary certificate declaring that the commodity was grown in a Medfly-free area must accompany the shipment. We propose to add that requirement for those commodities.

We also propose to make grammatical changes and updates throughout the list of fruits and vegetables. The footnote for Haiti concerning Executive Order 12779 would be removed because that Executive order was revoked on October 16, 1994 (59 FR 52403, published October 18, 1994). The footnote requiring that no green may be visible on the shoot of asparagus from Austria would be removed and added to the entry for asparagus from Austria. We would also amend the entry for watermelon from Spain by changing the scientific name provided for watermelon from Citrullus vulgaris to C. lanatus. C. lanatus is the most current scientific name for watermelon, and C. vulgaris is a synonym.

Melon and Watermelon From Certain Countries in South America

We propose to amend the regulations to allow the entry of commercial shipments of watermelon and several varieties of melon (Cucumis melo L. subsp. melo) into the United States from Peru. The specific varieties of melon that would be considered for importation include cantaloupe, netted melon (muskmelon, nutmeg melon, and Persian melon), vegetable melon (snake melon and oriental pickling melon), and winter melon (honeydew and casaba melon).

At the request of the Government of Peru, we conducted a pest risk assessment for melon and watermelon from Peru. In that assessment, we identified the pests of concern as the South American cucurbit fly (A. grandis) and the gray pineapple mealybug. We propose to allow the entry of melon and watermelon from Peru only under certain conditions to prevent the introduction into the United States of the South American cucurbit fly and the gray pineapple mealybug. These proposed conditions, which are discussed below, are similar to the existing conditions under which certain melon and watermelon may be imported from Ecuador (§ 319.56-2y) and from Brazil and Venezuela (§ 319.56-2aa).

The melon and watermelon would have to be grown in areas of Peru considered by APHIS to be free of the South American cucurbit fly. Peru recently provided APHIS with fruit fly survey data that demonstrate that the Departments of Lima, Ica, Arequipa, Moquegua, and Tacna meet the criteria for freedom in § 319.56-2(e) and (f) relative to the South American cucurbit fly. (The survey data is available upon request from the person listed under FOR FURTHER INFORMATION CONTACT.) Therefore, we propose to consider those areas as free of the South American cucurbit fly in Peru and to list them as such.

In addition, shipments of melon and watermelon would have to be accompanied by a phytosanitary certificate issued by the Peruvian NPPO that includes a declaration that the fruit was grown in an area recognized to be free of the South American cucurbit fly, and upon inspection, was found free of the gray pineapple mealybug. We would also specify in the regulations that only commercial shipments of melon and watermelon from Peru may be imported, given that, as discussed previously with respect to Annona spp. fruit from Grenada, produce grown commercially is less likely to be infested with plant pests than noncommercial shipments.

The pest risk assessment was limited to the continental United States. Therefore, we would require melon and watermelon from Peru to be shipped in boxes labeled “Not for distribution in HI, PR, VI, or Guam.” All shipments of melon and watermelon would have to be labeled in accordance with § 319.56-2(g), which states, in part, that the box of fruit imported into the United States must be clearly labeled with the name of the orchard or grove of origin, or the name of the grower; and the name of the municipality and State in which it was produced; and the type and amount of fruit it contains.

We believe that the above conditions would be adequate to guard against the introduction of quarantine pests into the United States with melon and watermelon imported from Peru.

As noted previously, the requirements for cantaloupe and watermelon from Ecuador are in § 319.56-2y, and the requirements for melons and watermelon from Brazil and Venezuela are in § 319.56-2aa. Because these sections are similar, we propose to combine them into a single section, which would also contain the requirements described above for melons and watermelon from Peru. The section would be entitled “Conditions governing the entry of melon and watermelon from South America.”

Specific reference to each country's agricultural department would be changed to the more general reference of the country's NPPO, thus avoiding the need to amend the regulations should the specific name of the NPPO change. In § 319.56-2y(a)(2), “South American cucurbit fruit fly” would be corrected to “South American cucurbit fly (Anastrepha grandis).” The requirement for phytosanitary certificates for cantaloupe, honeydew melon, and watermelon from Brazil and Venezuela, which would be moved from § 319.56-2aa(a)(2) to § 319.56-2y(b)(1) for Brazil and § 319.56-2y(c)(1) for Venezuela, would be amended to modify the requirement for the additional declaration. Rather than requiring that the declaration indicate that the cantaloupe or melons were grown in an area recognized to be free of the South American cucurbit fly, we would replace the terms “cantaloupe or melons” with the more general term “fruit.” Because we are combining two sections into a single section, changes such as updating references to “this section” to read “this paragraph” would be necessary. In addition, we would make other minor, nonsubstantive grammatical and style changes for consistency.

Watermelon, Squash, Cucumber, and Oriental Melon From the Republic of Korea

We propose to allow watermelon, squash (Curcurbita maxima), cucumber (Cucumis sativus), and oriental melon (C. melo) to be imported into the United States from the Republic of Korea under certain conditions, which would be set forth in § 319.56-2aa. (As discussed above, the current § 319.56-2aa would be combined with § 319.56-2y.) These fruits can be the host of several quarantine pests, including the pumpkin fruit fly (Bactrocera depressa), the cotton caterpillar (Diaphania indica), and the Asian corn borer (Ostrinia furnacalis), which were identified as pests with high pest-risk potential in the pest risk assessment. The cucumber green mottle mosaic virus was identified as a quarantine pest with medium pest-risk potential in the pest risk assessment.

We believe that the following conditions would guard against the entry of the specified quarantine pests in shipments of watermelon, squash, cucumber, and oriental melon imported from the Republic of Korea into the United States:

Condition | Quarantine pest to which it applies
The watermelon, squash, cucumber, and oriental melon must be grown in pest-proof greenhouses registered with the Republic of Korea's NPPO | B. depressa, D. indica, O. furnacalis.
The NPPO must inspect and regularly monitor greenhouses for plant pests. The NPPO must inspect greenhouses and plants, including fruit, at intervals of no more than 2 weeks, from the time of fruit set until the end of harvest | B. depressa, D. indica, O. furnacalis, cucumber green mottle mosaic virus.
The NPPO must set and maintain fruit fly traps in greenhouses from October 1 to April 30. The number of traps must be set as follows: Two traps for greenhouses smaller than 0.2 hectare in size; three traps for greenhouses 0.2 to 0.5 hectare; four traps for greenhouses over 0.5 hectare and up to 1.0 hectare; and for greenhouses greater than 1 hectare, traps must be placed at a rate of four traps per hectare | B. depressa.
The NPPO must check all traps once every 2 weeks. If a single pumpkin fruit fly is captured, that greenhouse will lose its registration until trapping shows that the infestation has been eradicated | B. depressa.
The fruit may be shipped only from December 1 through April 30 | B. depressa.
Each shipment must be accompanied by a phytosanitary certificate issued by NPPO, with the following additional declaration: “The regulated articles in this shipment were grown in registered greenhouses as specified by 7 CFR 319.56-2aa” | B. depressa, D. indica, O. furnacalis, cucumber green mottle mosaic virus.
Each shipment must be protected from pest infestation from harvest until export. Newly harvested fruits must be covered with insect-proof mesh or a plastic tarpaulin while moving to the packinghouse and awaiting packing. Fruit must be packed within 24 hours of harvesting, in an enclosed container or vehicle or in insect-proof cartons or cartons covered with insect-proof mesh or plastic tarpaulin, and then placed in containers for shipment. These safeguards must be intact when the shipment arrives at the port in the United States | B. depressa, D. indica, O. furnacalis.

Grapes from the Republic of Korea

We propose to allow the importation of grapes (Vitis spp.) into the United States from the Republic of Korea under certain conditions that would be set forth in a new § 319.56-2ll. The quarantine pests of concern for grapes grown in the Republic of Korea that were rated “high” in the pest risk assessment are the yellow peach moth (Conogethes punctiferalis), grapevine moth (Eupoecilia ambiguella), leaf-rolling torix (Sparganothis pilleriana), apple heliodinid (Stathmopoda auriferella), and the plant pathogenic fungus Monilinia fructigena. Another quarantine pest of concern is the moth Nippoptilia vitis, which was rated “medium” in the pest risk assessment. We propose the following phytosanitary measures to guard against the entry of quarantine pests in shipments of grapes imported from the Republic of Korea into the United States:

(1) The fields where the grapes are grown must be inspected during the growing season by the NPPO. The NPPO must inspect 250 grapevines per hectare, inspecting leaves, stems, and fruit of the vines.

(2) If evidence of C. punctiferalis, E. ambiguella, S. pilleriana, S. auriferella, or M. fructigena is detected during inspection, the field will immediately be rejected, and exports from that field will be canceled until visual inspection of the vines shows that the infestation has been eradicated.

(3) Fruit must be bagged from the time the fruit sets until harvest.

(4) Each shipment must be inspected by NPPO before export. For each shipment, NPPO must issue a phytosanitary certificate with an additional declaration stating that the fruit in the shipment was found free from C. punctiferalis, E. ambiguella, S. pilleriana, S. auriferella, M. fructigena, and N. vitis.

We believe that these proposed growing, inspection, and shipping requirements would be adequate to prevent the introduction of quarantine pests into the United States with grapes imported from the Republic of Korea.

Executive Order 12866 and Regulatory Flexibility Act

This proposed rule has been reviewed under Executive Order 12866. The rule has been determined to be not significant for the purposes of Executive Order 12866 and, therefore, has not been reviewed by the Office of Management and Budget.

In accordance with 5 U.S.C. 603, we have performed an initial regulatory flexibility analysis, which is set out below, regarding the economic effects of this proposed rule on small entities. Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

Under the Plant Protection Act (7 U.S.C. 7701-7772), the Secretary of Agriculture is authorized to regulate the importation of plants, plant products, and other articles to prevent the introduction of plant pests into the United States or the dissemination of plant pests within the United States.

We propose to amend the fruits and vegetables regulations to list a number of fruits and vegetables from certain parts of the world as eligible, under specified conditions, for importation into the United States. All of the fruits and vegetables, as a condition of entry, would be inspected and subject to such disinfection at the port of first arrival as may be required by an inspector. In addition, some of the fruits and vegetables would be required to meet other special conditions. We also propose to recognize areas in Peru as free from the South American cucurbit fly. These actions would provide the United States with additional kinds and sources of fruits and vegetables while continuing to provide protection against the introduction and spread of quarantine pests.

Availability of and Request for Production and Trade Data

For some of the commodities proposed for importation into the United States in this document, data on the levels of production are unavailable for a number of reasons. Some of these commodities are not produced in significant quantities either in the United States or in the country that would be exporting the commodity to the United States. Generally, statistical data are less available for commodities produced in small quantities when compared to a country's more widely or commercially produced commodities. The uncertainty surrounding the cost and availability of transportation and the demand for the commodity in the United States increases the difficulty in obtaining estimates of the potential volume of commodities exported from foreign countries to the United States.

Therefore, we are requesting the public to provide APHIS with any available data regarding the production or trade of Annona spp. in the United States and Grenada and pitaya in the United States and Mexico. These data will assist us in further assessing the effects that allowing the importation of these commodities could have on U.S. producers or consumers.

Effects on Small Entities

Data on the number and size of U.S. producers of the various commodities proposed for importation into the United States in this document are not available. However, since most fruit and vegetable farms are small by Small Business Administration standards, it is likely that the majority of U.S. farms producing the commodities discussed below are small. Potential economic effects that could occur if this proposal is adopted are discussed below by commodity and country of origin.

African horned cucumber from Chile. We propose to amend the regulations to allow the entry of African horned cucumber from Chile. African horned cucumber is a specialty crop that is grown in small quantities. Less than 20 acres of the fruit are cultivated in California; and less than 10 acres in Region V (Olmue) and Region X (Osorno) of Chile have been cultivated since 1996. Approximately 32,000 pounds of fruit are expected to be shipped to the United States annually from March to May. There is no reason to believe that allowing imports of African horned cucumber from Chile would have any significant economic impact on U.S. entities. In addition, we believe that U.S. consumers of African horned cucumber would benefit from the increase in its supply and availability.

Annona spp. from Grenada. In this document, we propose to allow the entry of commercial fruit shipments of cherimoya, soursop, custard apple, sugar apple, and atemoya, which are species of Annona, into the United States from Grenada. In the United States, Annona spp. are apparently a specialty crop produced on a small scale mainly in southern California; thus no data on the U.S. production of Annona spp. are available. Although no separate data are available on the production and trade of Annona spp. from Grenada, data may have been included with the production of all apples. From 2001 to 2003, Grenada produced an average of 533 metric tons of apples. In addition, Annona spp. exports may be included under the category of “apples, not elsewhere specified,” which includes wild apples. The 3-year average for exports of apples, not elsewhere specified, from Grenada is 5 metric tons. We believe any exports to the United States would be minimal and would not have any significant economic effect on U.S. producers, whether small or large, or consumers. In addition, we believe that U.S. consumers of Annona spp. would benefit from the increase in its supply and availability.

Fruit and vegetables from Mexico. We propose to specifically list Allium spp., asparagus, banana, beets, carrots, coconut fruit without husk, cucurbits, eggplant, grape, jicama, lemon, sour lime, parsley, pineapple, prickly pear pads, radish, tomato, and tuna as admissible fruits and vegetables from Mexico. Because these fruits and vegetables are admissible into the United States from Mexico under permit, specifically listing these commodities in the regulations would not have any economic effect on U.S. producers, whether small or large, or consumers. While production and trade data are not available for jicama, prickly pear, and tuna from Mexico or the United States, data are shown for the other commodities, as available, in table 1. The data provided in table 1 are based on either a 2- or 3-year average. The averages presented for most U.S. and Mexican production and trade, as well as for tomato exports from Mexico, are for the 3-year period of 2000, 2001, and 2002. A 2-year average for 2000 and 2001 is given for exports from Mexico (except tomatoes), U.S. production of parsley and beets, and U.S. imports of parsley and cucurbits.

Table 1.—U.S. and Mexican Production and Trade Data (in metric tons) of Fruits and Vegetables
Commodity | U.S. production | U.S. imports from all countries | U.S. imports from Mexico | Mexican production | Mexican exports
Allium spp.:
Shallot and green onion | 444,429 | 257,784 | 159,953 | 1,021,605 | 599,491
Garlic | 258,680 | 37,806 | 14,776 | 50,894 | 27,544
Leek and other alliaceous vegetables | (¹) | 3,040 | 2,752 | (¹) | 87,455
Asparagus | 103,060 | 75,086 | 38,231 | 57,545 | 44,378
Banana | 12,850 | 4,232,383 | 74,560 | 1,961,201 | 126,368
Beets | 101,738 | 20,341 | 15,254 | (¹) | 775,100
Carrot | 1,913,700 | 85,037 | 23,508 | 358,054 | 201,944
Coconut | 0 | 63,075 | 4,854 | 1,058,667 | 87,584
Cucurbits:
Melon and watermelons | 2,969,250 | 882,350 | 363,902 | 1,469,700 | 572,529
Cucumbers and gherkins | 1,078,800 | 15,035 | 1,924 | 416,667 | 7,880
Pumpkins, squash, and gourds | 761,253 | 223,697 | 148,343 | 550,000 | 372,294
Eggplant | 77,290 | 40,233 | 36,863 | 59,000 | 135,697
Grape | 6,495,380 | 987,124 | 191,477 | 427,497 | 117,510
Lemon and lime | 572,250 | 218,816 | 184,814 | 1,658,420 | 733,184
Parsley | 14,210 | 5,897 | (¹) | (¹) | (¹)
Pineapple | 302,500 | 348,617 | 19,923 | 598,629 | 117,510
Radish | 53,781 | 15,338 | 14,654 | (¹) | (¹)
Tomato | 10,590,000 | 804,548 | 664,362 | 2,085,831 | 1,551,685
¹ Not available.

Coconut fruit with milk and husk from Mexico. As noted earlier in this document, coconut fruit without husk have been admissible into the United States from Mexico under permit. In this document, we propose to allow coconut fruit with milk and husk from Mexico to be imported into the United States. While the data on coconut production and trade do not differentiate between coconut fruit with or without husk and milk, it is possible that an increase in imports of coconuts into the United States from Mexico would occur, since coconut fruit with milk and husk have previously been inadmissible from Mexico. Because the U.S. production of coconut fruit with milk and husk is supplemented with imports in order to satisfy the domestic demand, we do not believe that allowing the importation of coconut fruit with milk and husk from Mexico would have a significant effect on either U.S. consumers or producers. In addition, we believe that U.S. consumers would benefit from the increase in the supply and availability of coconut fruit with milk and husk from Mexico.

Pitaya from Mexico. In the United States, pitaya are a specialty crop produced on a small scale; thus no data on the U.S. production of pitaya are available. Mexican production and trade data are also not available.

Melon and watermelon from Peru. We propose to amend the regulations to allow the entry of commercial shipments of watermelon and several varieties of melon (Cucumis melo L. subsp. melo) into the United States from Peru. The specific varieties of melons that would be considered for importation include cantaloupe, netted melon (muskmelon, nutmeg melon, and Persian melon), vegetable melon (snake melon and oriental pickling melon), and winter melon (honeydew and casaba melon). The melon and watermelon from Peru would be admissible from the Departments of Lima, Ica, Arequipa, Moquegua, and Tacna, which we propose to recognize as free of the South American cucurbit fly.

From 2001 to 2003, the United States produced an average of almost 3 million metric tons of melon and watermelon and imported an average of 882,350 metric tons. For that same 3-year period, Peru produced an average of 72,337 metric tons of melon and watermelon. For the 2-year period of 2000 and 2001, Peru exported an average of 1,393 metric tons of melon and watermelon. Because the U.S. production of melon and watermelon is supplemented with imports in order to satisfy the domestic demand, we do not believe that allowing the importation of melon and watermelon from certain areas of Peru would have a significant effect on either U.S. consumers or producers. In addition, we believe that U.S. consumers of melon and watermelon would benefit from the increase in its supply and availability.

Watermelon, squash, cucumber, and oriental melon from the Republic of Korea. We propose to allow watermelon, squash, cucumber, and oriental melon to be imported into the United States from the Republic of Korea (South Korea) under certain conditions. Table 2 shows the average U.S. and South Korean production and trade data available for the 3-year period of 2000, 2001, and 2002, with a 2-year average for 2000 and 2001 for exports from South Korea. Note that data include a broader category than what is actually proposed to be imported; e.g., we propose to import cucumber, but the data are available under the broader category of cucumber and gherkins.

Table 2.—Production and Trade Data (in metric tons) for U.S. and South Korean Fruits and Vegetables
Commodity | U.S. production | U.S. imports from all countries | U.S.imports from South Korea | South Korean production | South Korean exports
Melon and watermelons | 2,969,250 | 882,350 | 0 | 324,260 | 428
Cucumbers and gherkins | 1,078,800 | 15,035 | 0 | 451,175 | 7,030
Pumpkins, squash, and gourds | 761,253 | 223,697 | 0 | 240,161 | 515

Grapes from South Korea. We propose to allow the importation of grapes into the United States from South Korea under certain conditions. From 2001 to 2003, the United States produced an average of almost 6.5 million metric tons of grapes and imported an average of 987,124 metric tons. For that same 3-year period, South Korea produced an average of 461,198 metric tons grapes (approximately 7 percent of the total U.S. production) with an average export of 101 metric tons. Because the U.S. production of grapes is supplemented with imports in order to satisfy the domestic demand, we do not believe that allowing the importation of grapes from South Korea would have a significant effect on either U.S. consumers or producers. In addition, we believe that U.S. consumers of grapes would benefit from the increase in its supply and availability.

This proposed rule contains information collection requirements, which have been submitted for approval to the Office of Management and Budget (see “Paperwork Reduction Act” below).

Executive Order 12988

This proposed rule would allow certain fruits and vegetables to be imported into the United States from certain parts of the world. If this proposed rule is adopted, State and local laws and regulations regarding the importation of fruits and vegetables under this rule would be preempted while the fruits and vegetables are in foreign commerce. Fresh fruits and vegetables are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

National Environmental Policy Act

APHIS' review and analysis of the potential environmental impacts associated with the proposed importations are documented in detail in an environmental assessment entitled “Proposed Rule for the 12th Periodic Amendment of the Fruits and Vegetables Regulations” (September 2003). The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Copies of the environmental assessment are available for public inspection in our reading room (information on the location and hours of the reading room is provided under the heading ADDRESSES at the beginning of this document). In addition, copies may be obtained by writing to the individual listed under FOR FURTHER INFORMATION CONTACT. The environmental assessment may be viewed on the Internet at http://www.aphis.usda.gov/ppd/es/ppqdocs.html.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. 02-106-1. Please send a copy of your comments to: (1) Docket No. 02-106-1, Regulatory Analysis and Development, PPD, APHIS, Station 3C71, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

In this document, we propose to amend the fruits and vegetables regulations to list a number of fruits and vegetables from certain parts of the world as eligible, under specified conditions, for importation into the United States. All of the fruits and vegetables, as a condition of entry, would be inspected and subject to treatment at the port of first arrival as may be required by an inspector. In addition, some of the fruits and vegetables would be required to meet other special conditions. We also propose to recognize areas in Peru as free from the South American cucurbit fly.

Allowing these fruits and vegetables to be imported would necessitate the use of certain information collection activities, including the completion of import permits, phytosanitary certificates, and fruit fly monitoring records.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.1320 hours per response.

Respondents: U.S. importers of fruits and vegetables; plant health officials of exporting countries.

Estimated annual number of respondents: 141.

Estimated annual number of responses per respondent: 5.5319.

Estimated annual number of responses: 780.

Estimated total annual burden on respondents: 103 hours. (Due to averaging, the total annual burden hours may not equal the product of the annual number of responses multiplied by the reporting burden per response.)

Copies of this information collection can be obtained from Mrs. Celeste Sickles, APHIS’s Information Collection Coordinator, at (301) 734-7477.

Government Paperwork Elimination Act Compliance

The Animal and Plant Health Inspection Service is committed to compliance with the Government Paperwork Elimination Act (GPEA), which requires Government agencies in general to provide the public the option of submitting information or transacting business electronically to the maximum extent possible. For information pertinent to GPEA compliance related to this proposed rule, please contact Mrs. Celeste Sickles, APHIS’s Information Collection Coordinator, at (301) 734-7477.

List of Subjects in 7 CFR Part 319

Bees, Coffee, Cotton, Fruits, Honey, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 would continue to read as follows:

Authority: 7 U.S.C. 450 and 7701-7772; 21 U.S.C. 136 and 136a; 7 CFR 2.22, 2.80, and 371.3.

2. Section 319.56-1 would be amended by adding, in alphabetical order, a new definition for country of origin to read as follows:

§ 319.56-1 Definitions.

* * * * *

Country of origin. Country where the plants from which the plant products are derived were grown.

* * * * *

3. Section 319.56-2t would be revised to read as follows:

§ 319.56-2t Administrative instructions: Conditions governing the entry of certain fruits and vegetables.

(a) The following commodities may be imported into all parts of the United States, unless otherwise indicated, from the places specified, in accordance with § 319.56-6 and all other applicable requirements of this subpart:

Country/locality | Common name | Botanical name | Plant part(s) | Additional restrictions (See paragraph (b) of this section.)
Argentina | Artichoke, globe | Cynara scolymus | Immature flower head.
| Basil | Ocimum spp | Above ground parts.
| Currant | Ribes spp | Fruit.
| Endive | Cichorium endivia | Leaf and stem.
| Gooseberry | Ribes spp | Fruit.
| Marjoram | Origanum spp | Above ground parts.
| Oregano | Origanum spp | Above ground parts.
Australia | Currant Gooseberry | Ribes spp Ribes spp | Fruit Fruit.
Austria | Asparagus, white | Asparagus officinalis | Shoot (no green may be visible on the shoot).
Barbados | Banana | Musa spp | Flower.
Belgium | Leek Pepper | Allium spp Capsicum spp | Whole plant Fruit | (b)(5)(i)
Belize | Banana | Musa spp | Flower in bracts with stems.
| Bay leaf Mint | Laurus nobilis Mentha spp | Leaf and stem Above ground parts.
| Papaya | Carica papaya | Fruit | (b)(1)(i), (b)(2)(iii)
| Rambutan | Nephelium lappaceum | Fruit | (b)(2)(i), (b)(5)(iii)
| Sage | Salivia officinalis | Leaf and stem.
| Tarragon | Artemisia dracunculus | Above ground parts.
Bermuda | Avocado Carambola Grapefruit Guava Lemon Longan | Persea americana Averrhoa carambola Citrus paradisi Psidium guajava Citrus limon Dimocarpus longan | Fruit. Fruit. Fruit. Fruit. Fruit. Fruit.
| Loquat Mandarin orange Natal plum Orange, sour Orange, sweet Papaya | Eriobotrya japonica Citrus reticulata Carissa macrocarpa Citrus aurantium Citrus sinensis Carica papaya | Fruit. Fruit. Fruit. Fruit. Fruit. Fruit.
| Passion fruit Peach Pineapple guava Suriname cherry | Passiflora spp Prunus persica Feijoa spp Eugenia uniflora | Fruit. Fruit. Fruit. Fruit.
Bolivia | Belgian endive | Cichorium intybus | Leaf.
Chile | African horned cucumber | Cucumis metuliferus | Fruit | (b)(2)(i)
| Babaco | Carica x heilborni var. pentagona | Fruit | (b)(1)(i)
| Basil | Ocimum spp. | Above ground parts.
| Lucuma | Manilkara sapota (=Lucuma mammosa) | Fruit | (b)(1)(i)
| Mountain papaya | Carica pubescens (=C. candamarcensis) | Fruit | (b)(1)(ii)
| Oregano | Origanum spp. | Leaf and stem.
| Pepper | Capsicum annuum | Fruit | (b)(1)(i)
| Sandpear | Pyrus pyrifolia | Fruit | (b)(1)(ii)
| Tarragon | Artemisia dracunculus | Above ground parts.
China | Bamboo | Bambuseae spp | Edible shoot, free of leaves and roots.
Colombia | Rhubarb | Rheum rhabarbarum | Stalk.
| Snow pea | Pisum sativum subsp. sativum | Flat, immature pod.
| Tarragon | Artemisia dracunculus | Above ground parts.
Cook Islands | Banana | Musa spp | Green fruit | (b)(4)(i)
| Cucumber Drumstick | Cucumis sativus Moringa pterygosperma | Fruit. Leaf.
| Ginger Indian mulberry Lemongrass Tossa jute | Zingiber officinale Morinda citrifolia Cymbopogon spp Corchorus olitorius | Root Leaf. Leaf. Leaf. | (b)(2)(ii)
Costa Rica | Basil Chinese kale Chinese turnip | Ocimum spp Brassica alboglabra Raphanus sativus | Whole plant. Leaf and stem. Root.
| Cole and mustard crops, including cabbage, broccoli, cauliflower, turnips, mustards, and related varieties | Brassica spp | Whole plant of edible varieties only
| Jicama | Pachyrhizus tuberosus or P. erosus | Root.
| Rambutan | Nephelium lappaceum | Fruit | (b)(2)(i), (b)(5)(iii)
Dominican Republic | Bamboo | Bambuseae spp | Edible shoot, free of leaves and roots.
| Durian | Durio zibethinus | Fruit.
Ecuador | Banana Basil | Musa spp Ocimum spp | Flower. Above ground parts.
| Chervil Cole and mustard crops, including cabbage, broccoli, cauliflower, turnips, mustards, and related varieties | Anthriscus spp Brassica spp | Leaf and stem. Whole plant of edible varieties only.
| Radicchio | Cichorium spp | Above ground parts.
El Salvador | Basil | Ocimum spp | Above ground parts.
| Cilantro | Coriandrum sativum | Above ground parts.
| Cole and mustard crops, including cabbage, broccoli, cauliflower, turnips, mustards, and related varieties | Brassica spp | Whole plant of edible varieties only.
| Dill | Anethum graveolens | Above ground parts.
| Eggplant Fennel German chamomile | Solanum melongena Foeniculum vulgare Matricaria recutita and Matricaria chamomilla | Fruit Leaf and stem Flower and leaf | (b)(3) (b)(2)(i) (b)(2)(i)
| Loroco | Fernaldia spp | Flower, leaf, and stem.
| Oregano or sweet marjoram | Origanum spp | Leaf and stem | (b)(2)(i)
| Parsley | Petroselinum crispum | Leaf and stem | (b)(2)(i)
| Rambutan | Nephelium lappaceum | Fruit | (b)(2)(i), (b)(5)(iii)
| Rosemary | Rosmarinus officinalis | Leaf and stem | (b)(2)(i)
| Waterlily or lotus Yam-bean or Jicama root | Nelumbo nucifera Pachyrhizus spp | Roots without soil Roots without soil | (b)(2)(i) (b)(2)(i)
France | Tomato | Lycopersicon esculentum | Fruit | (b)(4)(ii)
Great Britain | Basil | Ocimum spp | Leaf and stem.
Grenada | Abiu Atemoya | Pouteria caimito Annona squamosa x A. cherimola | Fruit Fruit. | (b)(3)
| Bilimbi Breadnut | Averrhoa bilimbi Brosimum alicastrum | Fruit. Fruit.
| Cherimoya | Annona cherimola | Fruit | (b)(3)
| Cocoplum Cucurbits | Chrysobalanus icaco Cucurbitaceae | Fruit. Fruit.
| Custard apple | Annona reticulata | Fruit | (b)(3)
| Durian Jackfruit | Durio zibethinus Artocarpus heterophyllus | Fruit. Fruit.
| Jambolan Jujube | Syzygium cumini Ziziphus spp | Fruit. Fruit.
| Langsat | Lansium domesticum | Fruit. |
| Litchi | Litchi chinensis | Fruit. |
| Malay apple | Syzygium malaccense | Fruit. |
| Mammee apple | Mammea americana | Fruit. |
| Peach palm | Bactris gasipaes | Fruit. |
| Piper | Piper spp | Fruit. |
| Pulasan | Nephelium ramboutan-ake | Fruit. |
| Rambutan | Nephelium lappaceum | Fruit. |
| Rose apple | Syzygium jambos | Fruit. |
| Santol | Sandoricum koetjape | Fruit. |
| Sapote | Pouteria sapota | Fruit. |
| Soursop | Annona muricata | Fruit | (b)(3)
| Sugar apple | Annona squamosa | Fruit | (b)(3)
Guatemala | Artichoke, globe | Cynara scolymus | Immature flower head. |
| Basil | Ocimum spp | Above ground parts. |
| Dill | Anethum graveonlens | Above ground parts. |
| Eggplant | Solanum melongena | Fruit. |
| Fennel | Foeniculum vulgare | Leaf and stem | (b)(2)(i)
| German | Matricaria chamomile chamomilla and Matricaria recutita | Flower and leaf | (b)(2)(i)
| Jicama | Pachyrhizus tuberosus or P. erosus | Root. |
| Loroco | Fernaldia spp | Flower and leaf. |
| Mint | Mentha spp | Above ground parts. |
| Oregano | Origanum spp. | Leaf and stem. |
| Papaya | Carica papaya | Fruit | (b)(1)(i), (b)(2)(iii)
| Rambutan | Nephelium lappaceum | Fruit | (b)(2)(i), (b)(5)(iii)
| Rhubarb | Rheum rhabarbarum | Above ground parts. |
| Rosemary | Rosmarinus officinalis | Leaf and stem | (b)(2)(i)
| Tarragon | Artemisia dracunculus | Above ground parts. |
| Waterlily or lotus | Nelumbo nucifera | Roots without soil | (b)(2)(i)
Haiti | Jackfruit | Artocarpus heterophyllus | Fruit. |
Honduras | Banana | Musa spp | Flower. |
| Basil | Ocimum basilicum | Leaf and stem | (b)(2)(i), (b)(5)(iv)
| Chicory | Cichorium spp | Leaf and stem. |
| Cilantro | Coriandrum sativum | Above ground parts. |
| Cole and mustard crops, including cabbage, broccoli, cauliflower, turnips, mustards, and related varieties | Brassica spp | Whole plant of edible varieties only. |
| German chamomile | Matricaria recutita and Matricaria chamomilla | Flower and leaf. | (b)(2)(i)
| Loroco | Fernaldia spp | Flower and leaf |
| Oregano or sweet marjoram | Origanum spp | Leaf and stem | (b)(2)(i)
| Radish | Raphanus sativus | Root. |
| Rambutan | Nephelium lappaceum | Fruit | (b)(2)(i), (b)(5)(iii)
| Waterlily or lotus | Nelumbo nucifera | Roots without soil | (b)(2)(i)
| Yam-bean or Jicama root | Pachyrhizus spp | Roots without soil | (b)(2)(i)
Indonesia | Dasheen | Colocasia spp., Alocasia spp., and Xanthosoma spp. | Tuber | (b)(2)(iv)
| Onion | Allium cepa | Bulb. |
| Shallot | Allium ascalonicum | Bulb. |
Israel | Arugula | Eruca sativa | Leaf and stem. |
| Chives | Allium schoenoprasum | Leaf. |
| Dill | Anethum graveolens | Above ground parts. |
| Mint | Mentha spp | Above ground parts. |
| Parsley | Petroselinum crispum | Above ground parts. |
| Watercress | Nasturtium officinale | Leaf and stem. |
Jamaica | Fenugreek | Tirgonella foenum-graceum | Leaf, stem, root. |
| Jackfruit | Artocarpus heterophyllus | Fruit.
| Ivy gourd | Coccinia grandis | Fruit.
| Pak choi | Brassica chinensis | Leaf and stem.
| Pointed gourd | Trichosanthes dioica | Fruit.
Japan | Bamboo | Bambuseae spp | Edible shoot, free of leaves and roots.
| Mioga ginger | Zingiber mioga | Above ground parts.
| Mung bean | Vigna radiata | Seed sprout.
| Soybean | Glycine max | Seed sprout.
Liberia | Jute Potato | Corchorus capsularis Solanum tuberosum | Leaf. Leaf.
Mexico | Allium Anise Apple Apricot Arugula Asparagus Banana Bay leaf Beet Blueberry Carrot Coconut | Allium spp Pimpinella anisum Malus domestica Prunus armeniaca Eruca sativa Asparagus officinalis Musa spp Laurus nobilis Beta vulgaris Vaccinium spp. Daucus carota Cocos nucifera | Whole plant. Leaf and stem. Fruit. Fruit. Leaf and stem. Whole plant. Flower and fruit. Leaf and stem. Whole plant. Fruit. Whole plant. Fruit without husk. | (b)(1)(iii) (b)(1)(iii)
|  |  | Fruit with milk and husk. | (b)(5)(v)
| Cucurbits | Cucurbitaceae | Inflorescence, flower, and fruit.
| Eggplant | Solanum melongena | Whole plant.
| Fig | Ficus carica | Fruit | (b)(1)(iii), (b)(2)(i)
| Grape | Vitis spp | Fruit, cluster, and leaf
| Grapefruit | Citrus paradisi | Fruit. | (b)(1)(iii)
| Jicama | Pachyrhizus tuberosus | Whole plant.
| Lambsquarters | Chenopodium spp | Above ground parts.
| Lemon | Citrus limon | Fruit.
| Lime, sour | Citrus aurantiifolia | Fruit.
| Mango | Mangifera indica | Fruit. | (b)(1)(iii)
| Orange | Citrus sinensis | Fruit. | (b)(1)(iii)
| Parsley | Petroselinum crispum | Whole plant.
| Peach | Prunus persica | Fruit. | (b)(1)(iii)
| Persimmon | Diospyros spp | Fruit. | (b)(1)(iii)
| Pineapple | Ananas comosus | Fruit.
| Pitaya | Hylocereus spp | Fruit. | (b)(1)(iv), (b)(2)(i)
| Piper | Piper spp | Leaf and stem.
| Pomegranate | Punica granatum | Fruit. | (b)(1)(iii)
| Porophyllum | Porophyllum spp | Above ground parts.
| Prickly-pear pad | Opuntia spp | Pad.
| Radish | Raphanus sativus | Whole plant.
| Rambutan | Nephelium lappaceum | Fruit. | (b)(2)(i), (b)(5)(iii)
| Rosemary | Rosmarinus officinalis | Above ground parts.
| Salicornia | Salicornia spp | Above ground parts.
| Tangerine | Citrus reticulata | Fruit. | (b)(1)(iii)
| Tepeguaje | Leucaena spp. | Fruit.
| Thyme | Thymus vulgaris | Above ground parts.
| Tomato | Lycopersicon lycopersicum | Whole plant.
| Tuna | Opuntia spp | Fruit.
Morocco | Strawberry | Fragaria spp | Fruit.
Morocco and Western Sahara | Tomato | Lycopersicon esculentum | Fruit. | (b)(4)(ii)
Netherlands | Leek Radish | Allium spp Raphanus sativus | Whole plant. Root. | (b)(5)(i)
New Zealand | Avocado Fig Oca | Persea americana Ficus carica Oxalis tuberosa | Fruit. Fruit. Tuber.
Nicaragua | Cilantro | Coriandrum sativum | Above ground parts.
| Cole and mustard crops, including cabbage, broccoli, cauliflower, turnips, mustards, and related varieties. | Brassica spp | Whole plant of edible varieties only.
| Eggplant | Solanum melongena | Fruit. | (b)(3)
| Fennel | Foeniculum vulgare | Leaf and stem. | (b)(2)(i)
| German chamomile | Matricaria recutita and M. chamomilla | Flower and leaf | (b)(2)(i)
| Loroco | Fernaldia spp | Leaf and stem. |
| Mint | Mentha spp | Above ground parts. |
| Parsley | Petoselinum crispum | Above ground parts. |
| Radicchio | Cichorium spp | Above ground parts. |
| Rambutan | Nephelium lappaceum | Fruit | (b)(2)(i), (b)(5)(iii)
| Rosemary | Rosmarinus officinalla | Above ground parts |
| Waterlily or lotus | Nelumbo nucifera | Roots without soil | (b)(2)(i)
| Yam-bean or Jicama root | Pachyrhizus spp | Roots without soil | (b)(2)(i)
Panama | Basil | Ocimum spp | Above ground parts. |
| Bean, green and lima | Phaseolus vulgaris and P. lunatus | Seed. |
| Belgian endive | Cichorium spp | Above ground parts. |
| Chervil | Anthriscus cerefolium | Above ground parts. |
| Chicory | Cichorium spp | Above ground parts. |
| Eggplant | Solanum melongena | Fruit. |
| Endive | Cichorium spp | Above ground parts. |
| Fenugreek | Tirgonella foenum-graceum | Leaf and stem. |
| Lemon thyme | Thymus citriodorus | Leaf and stem. |
| Mint | Mentha spp | Above ground parts. |
| Oregano | Origanum spp | Above ground parts. |
| Rambutan | Nephelium lappaceum | Fruit | (b)(2)(i), (b)(5)(iii)
| Rosemary | Rosmarinus officinalis | Above ground parts. |
| Tarragon | Artemisia dracunculus | Above ground parts. |
Peru | Argula | Eruca sativa | Leaf and stem. |
| Basil | Ocimum spp | Leaf and stem. |
| Carrot | Daucus carota | Root. |
| Chervil | Anthriscus spp | Leaf and stem. |
| Cole and mustard crops, including cabbage, broccoli, cauliflower, turnips, mustards, and related varieties. | Brassica spp | Whole plant of edible varieties only. |
| Cornsalad | Valerianella spp | Whole plant. |
| Dill | Anethum graveolens | Above ground parts. |
| Lambsquarters | Chenopodium album | Above ground parts. |
| Lemongrass | Cymbopogon spp | Leaf and stem. |
| Marijoram | Origanum spp | Above ground parts. |
| Mustard greens | Brassica juncea | Leaf. |
| Oregano | Origanum spp | Leaf and stem. |
| Parsley | Petroselinum crispum | Leaf and stem. |
| Radicchio | Cichorium spp | Leaf. |
| Swiss chard | Beta vulgaris | Leaf and stem. |
| Thyme | Thymus vulgaris | Above ground parts. |
Philippines | Jicama | Pachyrhizus tuberosus or P. erosus | Root. |
Poland | Pepper | Capsicum spp | Fruit. |
| Tomato | Lycopersicon esculentum | Fruit. |
Republic of Korea | Angelica | Aralia elata | Edible shoot. |
| Aster greens | Aster scaber | Leaf and stem. |
| Bonnet bellflower | Codonopsis lanceolata | Root. |
| Chard | Beta vulgaris subsp. cicla | Leaf. |
| Chinese bellflower | Platycodon grandiflorum | Root. |
| Dasheen | Colocasia spp., Alocasia spp., and Xanthosoma spp | Root | (b)(2)(iv)
| Eggplant | Solanum melongena | Fruit. |
| Kiwi | Actinidia deliciosa | Fruit. |
| Lettuce | Lactuca sativa | Leaf. |
| Mugwort | Artemisia vulgaris | Leaf and stem. |
| Onion Shepherd's pursue | Allium cepa Capsell bursa | Bulb Leaf and stem.
| Strawberry Watercress Youngia greens | Fragaria spp Nasturtium official Youngia sonchifolia | Leaf and stem. Leaf and stem. Leaf, stem, and root.
Sierra Leone | Cassava Jute Potato | Manihot esculenta Corchorus capsularis Solanum tuberosum | Leaf. Leaf. Leaf.
St. Vincent and the Grenadines | Turmeric | Curcuma longa | Rhizome.
South Africa | Artichoke, globe | Cynara scolymus | Immature flower head.
| Pineapple | Ananas spp | Fruit.
Spain | Eggplant Tomato | Solanum melongena Lycopersicon escyulentum | Fruit Fruit | (b)(3) (b)(4)(ii)
| Watermelon | Citrullus lanatus | Fruit | (b)(3)
Suriname | Amaranth Black palm nut Jessamine Malabar spinach Mung bean Pak choi | Amaranthus spp Astrocaryum spp Cestrum latifolium Bassella alba Vigna radiata Brassica chinensis | Leaf and stem. Fruit. Leaf and stem. Leaf and stem. Seed sprout. Leaf and stem.
Sweden | Dill | Astrocaryum graveolens | Above ground parts.
Taiwan | Bamboo | Bambuseae spp | Edible shoot, free of leaves and roots.
| Burdock Wasabi (Japanese horseradich) | Arctium lappa Wasabia japonica | Root. Root and stem.
Thailand | Dasheen | Alocasia spp., Colocaisa spp., and Xanthosoma spp. | Leaf and stem.
| Tumeric | Curcuma domestica | Leaf and stem.
Tonga | Burdock | Arctium lappa | Root, stem, and leaf.
| Jicama | Pachyrhizus tuberosus | Root.
| Pumpkin | Cucurbita maxima | Fruit.
Trinidad and Tobago | Lemongrass | Cymbopogon citratus | Leaf and stem.
| Leren | Calathea allouia | Tuber.
| Shield leaf | Cecropia peltata | Leaf and stem.
Zambia | Snow pea | Pisum sativum spp. sativum | Flat, immature pod.

(b) Additional restrictions for applicable fruits and vegetables as specified in paragraph (a) of this section.

(1) Free areas.

(i) The commodity must be from a Medfly-free area listed in § 319.56-2(j) and must be accompanied by a phytosanitary certificate issued by the national plant protection organization (NPPO) of the country of origin with an additional declaration stating that the commodity originated in a Medfly-free area.

(ii) The commodity must be from a Medfly-free area listed in § 319.56-2(j) and must be accompanied by a phytosanitary certificate issued by the NPPO of the country of origin with an additional declaration stating that the commodity originated in a free area. Fruit from outside Medfly-free areas must be treated in accordance with § 319.56-2x of this subpart.

(iii) The commodity must be from a fruit-fly free area listed in § 319.56-2(h) and must be accompanied by a phytosanitary certificate issued by the NPPO of the country of origin with an additional declaration stating that the commodity originated in a free area.

(iv) The commodity must be from a fruit-fly free area listed in § 319.56-2(h) and must be accompanied by a phytosanitary certificate issued by the NPPO of the country of origin with an additional declaration stating: “These regulated articles originated in an area free from pests as designated in 7 CFR 319.56-2(h) and, upon inspection, were found free of Dymicoccus neobrevipes and Planococcus minor.”

(2) Restricted importation and distribution.

(i) Prohibited entry into Puerto Rico, Virgin Islands, Hawaii, and Guam. Cartons in which commodity is packed must be stamped “Not for importation into or distribution within PR, VI, HI, or Guam.”

(ii) Prohibited entry into Puerto Rico, Virgin Islands, and Guam. Cartons in which commodity is packed must be stamped “Not for importation into or distribution within PR, VI, or Guam.”

(iii) Prohibited entry into Hawaii. Cartons in which commodity is packed must be stamped “Not for importation into or distribution within HI.”

(iv) Prohibited entry into Guam. Cartons in which commodity is packed must be stamped “Not for importation into or distribution within Guam.”

(3) Commercial shipments only.

(4) Stage of fruit.

(i) The bananas must be green at the time of export. Inspectors at the port of arrival will determine that the bananas were green at the time of export if: (1) Bananas shipped by air are still green upon arrival in the United States; and (2) bananas shipped by sea are either still green upon arrival in the United States or yellow but firm.

(ii) The tomatoes must be green upon arrival in the United States. Pink or red fruit may only be imported in accordance with § 319.56-2dd of this subpart.

(5) Other conditions.

(i) Must be accompanied by a phytosanitary certificate issued by the NPPO of the country of origin with an additional declaration stating that the commodity is apparently free of Acrolepiopsis assectella.

(ii) Entry permitted only from September 15 to May 31, inclusive, to prevent the introduction of a complex of exotic pests including, but not limited to a thrips (Haplothrips chinensis) and a leafroller (Capua tortrix).

(iii) Must be accompanied by a phytosanitary certificate issued by the NPPO of the country of origin with an additional declaration stating that the fruit is free from Coccus moestus, C. viridis, Dysmicoccus neobrevipes, Planococcus lilacinus, P. minor, and Psedococcus landoi; and all damaged fruit was removed from the shipment prior to export under the supervision of the NPPO.

(iv) Must be accompanied by a phytosanitary certificate issued by the NPPO of the country of origin with an additional declaration stating that the fruit is free from Planococcus minor.

(v) Must be accompanied by a phytosanitary certificate issued by the national plant protection organization of the country of origin with an additional declaration stating that the fruit is of the Malayan dwarf variety or Maypan variety (=F1 hybrid, Malayan Dwarf×Panama Tall) (which are resistant to lethal yellowing disease) based on verification of the parent stock. (Approved by the Office of Management and Budget under control number 0579-0049)

4. Sections 319.56-2y and 319.56-2aa would be revised and a new § 319.56-2ll would be added to read as follows:

§ 319.56-2y Conditions governing the entry of melon and watermelon from certain countries in South America.

(a) Cantaloupe and watermelon from Ecuador. Cantaloupe (Cucumis melo) and watermelon (fruit) (Citrullus lanatus) may be imported into the United States from Ecuador only in accordance with this paragraph and all other applicable requirements of this subpart:

(1) The cantaloupe or watermelon may be imported in commercial shipments only.

(2) The cantaloupe or watermelon must have been grown in an area where trapping for the South American cucurbit fly (Anastrepha grandis) has been conducted for at least the previous 12 months by the national plant protection organization (NPPO) of Ecuador, under the direction of APHIS, with no findings of the pest.⁷

⁷ Information on the trapping program may be obtained by writing to the Animal and Plant Health Inspection Service, International Services, Stop 3432, 1400 Independence Avenue SW., Washington, DC 20250-3432.

(3) The following area meets the requirements of paragraph (a)(2) of this section: The area within 5 kilometers of either side of the following roads:

(i) Beginning in Guayaquil, the road north through Nobol, Palestina, and Balzar to Velasco-Ibarra (Empalme);

(ii) Beginning in Guayaquil, the road south through E1 26, Puerto Inca, Naranjal, and Camilo Ponce to Enriquez;

(iii) Beginning in Guayaquil, the road east through Palestina to Vinces;

(iv) Beginning in Guayaquil, the road west through Piedrahita (Novol) to Pedro Carbo; or

(v) Beginning in Guayaquil, the road west through Progreso, Engunga, Tugaduaja, and Zapotal to El Azucar.

(4) The cantaloupe or watermelon may not be moved into Alabama, American Samoa, Arizona, California, Florida, Georgia, Guam, Hawaii, Louisiana, Mississippi, New Mexico, Puerto Rico, South Carolina, Texas, and the U.S. Virgin Islands. The boxes in which the cantaloupe or watermelon is packed must be stamped with the name of the commodity followed by the words “Not to be distributed in the following States or territories: AL, AS, AZ, CA, FL, GA, GU, HI, LA, MS, NM, PR, SC, TX, VI”.

(b) Cantaloupe, honeydew melons, and watermelon from Brazil. Cantaloupe, honeydew melons, and watermelon may be imported into the United States from Brazil only in accordance with this paragraph and all other applicable requirements of this subpart:

(1) The cantaloupe, honeydew melons, or watermelon must have been grown in the area of Brazil considered by APHIS to be free of the South American cucurbit fly in accordance with § 319.56-2(e)(4) of this subpart.

(i) The following area in Brazil is considered free of the South American cucurbit fly: That portion of Brazil bounded on the north by the Atlantic Ocean; on the east by the River Assu (Acu) from the Atlantic Ocean to the city of Assu; on the south by Highway BR 304 from the city of Assu (Acu) to Mossoro, and by Farm Road RN-015 from Mossoro to the Ceara State line; and on the west by the Ceara State line to the Atlantic Ocean.

(ii) All shipments of cantaloupe, honeydew melons, and watermelon must be accompanied by a phytosanitary certificate issued by the NPPO of Brazil that includes a declaration indicating that the fruit was grown in an area recognized to be free of the South American cucurbit fly.

(2) The cantaloupe, honeydew melons, and watermelon must be packed in an enclosed container or vehicle, or must be covered by a pest-proof screen or plastic tarpaulin while in transit to the United States.

(3) All shipments of cantaloupe, honeydew melons, and watermelon must be labeled in accordance with § 319.56-2(g) of this subpart.

(c) Cantaloupe, honeydew melons, and watermelon from Venezuela. Cantaloupe, honeydew melons, and watermelon may be imported into the United States from Venezuela only in accordance with this paragraph and all other applicable requirements of this subpart:

(1) The cantaloupe, honeydew melons, or watermelon must have been grown in the area of Venezuela considered by APHIS to be free of the South American cucurbit fly in accordance with § 319.56-2(e)(4) of this subpart.

(i) The following area in Venezuela is considered free of the South American cucurbit fly: The Paraguana Peninsula, located in the State of Falcon, bounded on the north and east by the Caribbean Ocean, on the south by the Gulf of Coro and an imaginary line dividing the autonomous districts of Falcon and Miranda, and on the west by the Gulf of Venezuela.

(ii) All shipments of cantaloupe, honeydew melons, and watermelon must be accompanied by a phytosanitary certificate issued by the NPPO of Venezuela that includes a declaration indicating that the fruit was grown in an area recognized to be free of the South American cucurbit fly.

(2) The cantaloupe, honeydew melons, and watermelon must be packed in an enclosed container or vehicle, or must be covered by a pest-proof screen or plastic tarpaulin while in transit to the United States.

(3) All shipments of cantaloupe, honeydew melons, and watermelon must be labeled in accordance with § 319.56-2(g) of this subpart.

(d) Cantaloupe, netted melon, vegetable melon, winter melon, and watermelon from Peru. Cantaloupe, netted melon, vegetable melon, and winter melon (Cucumis melo L. subsp. melo); and watermelon may be imported into the United States from Peru only in accordance with this paragraph and all other applicable requirements of this subpart:

(1) The fruit may be imported in commercial shipments only.

(2) The fruit must have been grown in the area of Peru considered by APHIS to be free of the South American cucurbit fly in accordance with § 319.56-2(e)(4) of this subpart.

(i) The Departments of Lima, Ica, Arequipa, Moquegua, and Tacna in Peru are considered free of the South American cucurbit fly.

(ii) All shipments must be accompanied by a phytosanitary certificate issued by the NPPO of Peru that includes a declaration indicating that the fruit was grown in an area recognized to be free of the South American cucurbit fly, and upon inspection, were found free of the gray pineapple mealybug (Dymicoccus neobrevipes).

(3) The fruit must be packed in an enclosed container or vehicle, or must be covered by a pest-proof screen or plastic tarpaulin while in transit to the United States.

(4) All shipments of fruit must be labeled in accordance with § 319.56-2(g) of this subpart, and the boxes in which the fruit is packed must be labeled “Not for distribution in HI, PR, VI, or Guam.”

* * * * *

§ 319.56-2aa Conditions governing the entry of watermelon, squash, cucumber, and oriental melon from the Republic of Korea.

Watermelon (Citrullus lanatus), squash (Curcurbita maxima), cucumber (Cucumis sativus), and oriental melon (Cucumis melo) may be imported into the United States from the Republic of Korea only in accordance with this paragraph and all other applicable requirements of this subpart:

(a) The fruit must be grown in pest-proof greenhouses registered with the Republic of Korea's national plant protection organization (NPPO).

(b) The NPPO must inspect and regularly monitor greenhouses for plant pests. The NPPO must inspect greenhouses and plants, including fruit, at intervals of no more than 2 weeks, from the time of fruit set until the end of harvest.

(c) The NPPO must set and maintain fruit fly traps in greenhouses from October 1 to April 30. The number of traps must be set as follows: Two traps for greenhouses smaller than 0.2 hectare in size; three traps for greenhouses 0.2 to 0.5 hectare; four traps for greenhouses over 0.5 hectare and up to 1.0 hectare; and for greenhouses greater than 1 hectare, traps must be placed at a rate of four traps per hectare.

(d) The NPPO must check all traps once every 2 weeks. If a single pumpkin fruit fly is captured, that greenhouse will lose its registration until trapping shows that the infestation has been eradicated.

(e) The fruit may be shipped only from December 1 through April 30.

(f) Each shipment must be accompanied by a phytosanitary certificate issued by NPPO, with the following additional declaration: “The regulated articles in this shipment were grown in registered greenhouses as specified by 7 CFR 319.56-2aa.”

(g) Each shipment must be protected from pest infestation from harvest until export. Newly harvested fruit must be covered with insect-proof mesh or a plastic tarpaulin while moving to the packinghouse and awaiting packing. Fruit must be packed within 24 hours of harvesting, in an enclosed container or vehicle or in insect-proof cartons or cartons covered with insect-proof mesh or plastic tarpaulin, and then placed in containers for shipment. These safeguards must be intact when the shipment arrives at the port in the United States.

* * * * *

§ 319.56-2ll Conditions governing the entry of grapes from the Republic of Korea.

Grapes (Vitis spp.) may be imported into the United States from the Republic of Korea under the following conditions:

(a) The fields where the grapes are grown must be inspected during the growing season by the Republic of Korea's national plant protection organization (NPPO). The NPPO will inspect 250 grapevines per hectare, inspecting leaves, stems, and fruit of the vines.

(b) If evidence of Conogethes punctiferalis, Eupoecilia ambiguella, Sparganothis pilleriana, Stathmopoda auriferella, or Monilinia fructigena is detected during inspection, the field will immediately be rejected, and exports from that field will be canceled until visual inspection of the vines shows that the infestation has been eradicated.

(c) Fruit must be bagged from the time the fruit sets until harvest.

(d) Each shipment must be inspected by the NPPO before export. For each shipment, the NPPO must issue a phytosanitary certificate with an additional declaration stating that the fruit in the shipment was found free from C. punctiferalis, E. ambiguella, S. pilleriana, S. auriferella, or M. fructigena, and Nippoptilia vitis.

Done in Washington, DC, this 11th day of December, 2003.
Bobby R. Acord,
Administrator, Animal and Plant Health Inspection Service.

[FR Doc. 03-31202 Filed 12-17-03; 8:45 am]

BILLING CODE 3410-34-P